DEPARTMENT OF COMMERCE

International Trade Administration

[A-475-831]

Structural Steel Beams From Italy; Amended Final Determination of Sales at Not Less Than Fair Value

AGENCY: Import Administration, International Trade Administration, Department of Commerce.

EFFECTIVE DATE: June 12, 2002.

FOR FURTHER INFORMATION CONTACT: Michael Strollo, AD/CVD Enforcement Group I, Office 2, Import Administration, International Trade Administration, U.S. Department of Commerce, 14th Street and Constitution Avenue, NW., Washington, DC 20230; telephone (202) 482-0629.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (2001).

Amendment to Final Results

In accordance with section 735(d) of the Act, on May 20, 2002, the Department published the final determination in the less than fair value investigation on structural steel beams from Italy. See Notice of Final Determination of Sales at Not Less Than Fair Value: Structural Steel Beams from Italy (67 FR 35481). On May 21, 2002, we received an allegation, timely filed pursuant to 19 CFR 351.224(c)(2), from Duferdofin, S.p.A. (Duferdofin), the respondent, that the Department made certain ministerial errors in its final determination. We did not receive comments from the petitioners, the Committee for Fair Beam Imports and its individual members. After analyzing Duferdofin's submission, we have determined, in accordance with 19 CFR 351.224, that certain ministerial errors were made in our final margin calculation for Duferdofin. Specifically, we find that we: (1) Incorrectly applied a domestic inland freight amount related to shipments to a particular warehouse to all sales to the United States, rather than those sales specifically shipped to the warehouse in question; (2) incorrectly revised international freight expenses based on the shipment date; and (3) inappropriately failed to deduct home market commissions from the home market price.

For a detailed discussion of the ministerial errors noted above, as well as the Department's analysis, see the memorandum to Richard W. Moreland from the team, dated June 4, 2002.

Therefore, in accordance with 19 CFR 351.224(e), we are amending the final determination in the less than fair value investigation on structural steel beams from Italy. The revised weighted-average dumping margins are as follows:

Exporter/manufacturer | Original Final margin percentage | Amended Final margin percentage
Duferdofin, S.p.A. | 0.33 | 0.01
All Others | 0.33 | 0.01

Scope of the Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I-sections, H-sections, or pilings; however, if the only additional weldment, connector or attachment on the beam is a shipping brace attached to maintain stability during transportation, the beam is not removed from the scope definition by reason of such additional weldment, connector, or attachment.

The merchandise subject to this investigation is classified in the Harmonized Tariff Schedule of the United States (“HTSUS”) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

This investigation and notice are in accordance with sections 735(d) and 777(i) of the Act.

Dated: June 6, 2002.
Faryar Shirzad,
Assistant Secretary for Import Administration.

[FR Doc. 02-14837 Filed 6-11-02; 8:45 am]

BILLING CODE 3510-DS-P